ENVIRONMENTAL PROTECTION AGENCY

[FRL-7547-3]

Connecticut Marine Sanitation Device Standard; Notice of Determination for the Connecticut Portion of the Pawcatuck River, Little Narragansett Bay, Portions of Fishers Island Sound and All of Stonington Harbor

On January 29, 2003 notice was published that the State of Connecticut had petitioned the Regional Administrator, Environmental Protection Agency (EPA), to determine that adequate facilities for the safe and sanitary removal and treatment of sewage from all vessels are reasonably available for all waters of the “Connecticut portion of the Pawcatuck River, Little Narragansett Bay, portions of Fishers Island Sound and all of Stonington Harbor.” The petition was filed pursuant to section 312 (f) (3) of Pub. L. 92-500, as amended by Pub. L. 95-217 and 100-4, for the purpose of declaring these waters a “No Discharge Area” (NDA).

Section 312 (f) (3) states: “After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.”

The information submitted to me by the State of Connecticut certifies that there are three disposal facilities available to service vessels operating in the “Connecticut portion of the Pawcatuck River, Little Narragansett Bay, portions of Fishers Island Sound and all of Stonington Harbor.” A table with the facilities' locations, contact information, hours of operation, and fees is appended at the end of this notice.

Based on an examination of the petition and its supporting information, which included site visits by EPA New England staff, I have determined that adequate facilities for the safe and sanitary removal and treatment of sewage from all vessels are reasonably available for the area covered under this determination which includes the “Connecticut portion of the Pawcatuck River, Little Narragansett Bay, portions of Fishers Island Sound and all of Stonington Harbor.”

The area covered under this petition extends from Wamphassuc Point (41° 19′ 40.63″ N by 71° 55′ 15.75″ W) due south past Noyes Shoal to the boundary between Connecticut and New York (41° 18′ 28.99″ N by 71° 55′ 15.75″ W), easterly following the boundary between Connecticut an New York to the intersection of the Connecticut, New York and Rhode Island State lines (41° 18′ 16.69″ N by 71° 54′ 27.23″ W) and following the boundary between Connecticut and Rhode Island to U. S. Route 1 over the Pawcatuck River and including all Connecticut waters seaward of U.S. Route 1.

This determination is made pursuant to section 312 (f) (3) of Pub. L. 92-500, as amended by Pub. L. 95-217 and 100-4. 0000

A Response to Comments was prepared for the nine communications EPA New England received during the 30 day comment period, and may be requested from EPA by written request to:

Ann Rodney, U.S. EPA New England, 1 Congress Street, Suite 1100, CWQ, Boston, MA 02114-2023.

Dated: August 12, 2003.
Robert W. Varney,
Regional Administrator, Region 1.

Location | Contact Information | Hours of Operation (Call Ahead) | Mean Low Water Depth | Fee
Dodson Boatyard Stonington, CT | VHF CH 78 (860) 535-1507 | Mar-Oct 8-10 | 6-7 feet | $5
Norwest Marina Pawcatuck, CT | VHF CH 78 (860) 599-2442 | Apr-Nov 8-6 | 6-7 feet | $5
Westerly Pumpout Boat (mobile) | VHF CH 9 (401) 348-2538 | Apr-Oct 10-4 | N/A | $5

[FR Doc. 03-21427 Filed 8-21-03; 8:45 am]

BILLING CODE 6560-50-P